DEPARTMENT OF LABOR

Office of Workers' Compensation Programs

[OMB Control No. 1240-NEW]

Proposed Information Collection; OWCP Provider ACH Form (OWCP-3881)

AGENCY: Office of Workers' Compensation Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Workers' Compensation Programs (OWCP) is soliciting comments on the information collection for OWCP Provider ACH Form (SF-3881).

DATES: All comments must be received on or before December 30, 2024.

ADDRESSES: You may submit comment as follows. Please note that late, untimely filed comments will not be considered.

Written/Paper Submissions: Submit written/paper submissions in the following way:

• Mail or visit DOL-OWCP(Hand-Delivery), Office of Workers' Compensation Programs, U.S. Department of Labor, 200 Constitution Avenue NW, Room S3524, Washington, DC 20210.

• OWCP will post your comment as well as any attachments, except for information submitted and marked as confidential, in the docket at https://www.regulations.gov.

FOR FURTHER INFORMATION CONTACT: Anjanette Suggs, Office of Workers' Compensation Programs, at suggs.anjanette@dol.gov (email) or (202) 354-9660 (voice).

SUPPLEMENTARY INFORMATION:

I. Background

The Office of Workers' Compensation Programs (OWCP) is the agency responsible for administration of the Federal Employees' Compensation Act (FECA), 5 U.S.C. 8101 et seq., the Black Lung Benefits Act (BLBA), 30 U.S.C. 901 et seq., the Energy Employees Occupational Illness Compensation Program Act of 2000 (EEOICPA), 42 U.S.C. 7384 et seq., and the Longshore and Harbor Workers' Compensation Act, 33 U.S.C 901 et seq. These statutes require OWCP to pay for appropriate medical and vocational rehabilitation services provided to beneficiaries. In order for OWCP's bill processing contractor to pay providers for these services with its bill processing system, providers must complete and submit an ACH Vendor payment system form. This form is required under the provision of 31 U.S.C. 3322 and 31 CFR 210. The information reported on the form will be used by the Treasury Department to transmit payment data by electronic means to a vendor's financial institution for payment of medical services rendered to OWCP's claimants.

If this information is not obtained, when a provider submits their bill for payment, the bill payment process is substantially prolonged and increases the burden on providers to obtain payment for services rendered. The regulations implementing the above statutes that OWCP administers permit the collection of information necessary to allow its billing contractor to process and pay bills submitted by providers of medical and vocational rehabilitation services. (20 CFR 10.801, 30.701, 725.704, 725.705 and 725.714).

II. Desired Focus of Comments

OWCP is soliciting comments concerning the proposed information collection related to the OWCP ACH Vendor Payment Enrolment Form.

The OWCP is particularly interested in comments that:

• Evaluate whether the collection of information is necessary for the proper performance of the functions of the Agency, including whether the information has practical utility;

• Evaluate the accuracy of OWCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP located at 200 Constitution Avenue NW, Room S-3524, Washington, DC 20210. Questions about the information collection requirements may be directed to the person listed in the FOR FURTHER INFORMATION section of this notice.

III. Current Actions

This information collection request concerns ACH Vendor Payment Enrollment Form. OWCP has updated the data with respect to the number of respondents, responses, burden hours, and burden costs supporting this information from the previous information collection request.

Type of Review: New collection without an OMB Control Number.

Agency: Office of Workers' Compensation Programs.

OMB Number: 1240-0NEW.

Affected Public: Private Sector.

Number of Respondents: 35,424.

Frequency: On Occasion.

Number of Responses: 35,424.

Annual Burden Hours: 1,772 hours.

Annual Respondent or Recordkeeper Cost: $216.96.

OWCP Forms: OWCP Form [OWCP-3881], [OWCP Provider Enrollment ACH Form].

Comments submitted in response to this notice will be summarized in the request for Office of Management and Budget approval of the proposed information collection request; they will become a matter of public record and will be available at https://www.reginfo.gov.

Anjanette C. Suggs,
Certifying Officer.

[FR Doc. 2024-25236 Filed 10-30-24; 8:45 am]

BILLING CODE 4510-CR-P